DEPARTMENT OF HEALTH AND HUMAN SERVICES

National Institutes of Health

National Cancer Institute; Amended Notice of Meeting

Notice is hereby given of a change in the meeting of the National Cancer Institute Special Emphasis Panel, June 29, 2015, 8:00 a.m. to June 30, 2015, 05:00 p.m., Hyatt Regency Bethesda, One Bethesda Metro Center, 7400 Wisconsin Avenue, Bethesda, MD 20814 which was published in the Federal Register on April 22, 2015, 80 FR 22540.

The meeting notice is amended to change the title from Exploratory/Development Research Grant Program Omnibus SEP-3 to NCI Omnibus R03 & R21 SEP-3. The meeting is closed to the public.

Dated: May 12, 2015.
Melanie J. Gray,
Program Analyst, Office of Federal Advisory Committee Policy.

[FR Doc. 2015-11824 Filed 5-15-15; 8:45 am]

BILLING CODE 4140-01-P